OFFICE OF THE UNITED STATES TRADE REPRESENTATIVES

Notice of Meeting of the Industry Sector Advisory Committee on Small and Minority Business (ISAC-14)

AGENCY: Office of the United States Trade Representatives.

ACTION: Notice of a partially opened meeting.

SUMMARY: The Industry Sector Advisory Committee on Small and Minority Business (ISAC-14) will hold a meeting on August 18, 2003, from 9 a.m. to 3 p.m. The meeting will be closed to the public from 9 a.m. to 1 p.m. and opened to the public from 1 p.m. to 3 p.m.

DATES: The meeting is scheduled for August 18, 2003, unless otherwise notified.

ADDRESSES: The meeting will be held at the Ronald Reagan Bldg, USA Trade Center, Training Room A.

FOR FURTHER INFORMATION CONTACT: Amy Ryan, DPO for ISAC-14 at (202) 482-4792, Department of Commerce, 14th Street and Constitution Avenue, NW., Washington, DC 20230 or Christina Sevilla, Director for Intergovernmental Affairs, on (202) 395-6120.

SUPPLEMENTARY INFORMATION: During the opened portion of the meeting the following agenda items will be discussed.

• Update on the Free Trade Area of the Americas (FTAA).

• An overview of the Minority Business Development Agency's (MBDA) services and held available for small business.

• Small Business Administration's future plans to assist small businesses.

• Update from U.S. Customs on Customs Trade Partnership Against Terrorism (C-TPAT) and Best Practices.

Christopher A. Padilla,
Assistant U.S. Trade Representative for Intergovernmental Affairs and Public Liaison.

[FR Doc. 03-20501 Filed 8-11-03; 8:45 am]

BILLING CODE 3190-01-M